DEPARTMENT OF HOMELAND SECURITY

Federal Emergency Management Agency

[Docket ID FEMA-2017-0002; Internal Agency Docket No. FEMA-B-1737]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

Catalog of Federal Domestic Assistance No. 97.022, “Flood Insurance.”

Dated: July 13, 2017.
Roy E. Wright,
Deputy Associate Administrator for Insurance and Mitigation, Department of Homeland Security, Federal Emergency Management Agency.

State and county | Location and case No. | Chief executive officer of community | Community map repository | Online location of letter of map revision | Effective date of modification | Community No.
Arizona:
Pima | Town of Marana (17-09-0328P) | The Honorable Ed Honea, Mayor, Town of Marana, 11555 West Civic Center Drive, Marana, AZ 85653 | Engineering Department, 11555 West Civic Center Drive, Marana, AZ 85653 | http://www.msc.fema.gov/lomc | Oct. 20, 2017 | 040118
Pima | Unincorporated Areas of Pima County (17-09-0328P) | The Honorable Sharon Bronson, Chair, Pima County Board of Supervisors, 130 West Congress Street, 11th Floor, Tucson, AZ 85701 | Pima County Flood Control District, 201 North Stone Avenue, 9th Floor, Tucson, AZ 85701 | http://www.msc.fema.gov/lomc | Oct. 20, 2017 | 040073
California:
Riverside | Agua Caliente Band of Cahuilla Indian Reservation (16-09-1551P) | The Honorable Jeff L. Grubbe, Chairman, Agua Caliente Band of Cahuilla Indians, 5401 Dinah Shore Drive, Palm Springs, CA 92264 | Planning and Natural Resources, 5401 Dinah Shore Drive, Palm Springs, CA 92264 | http://www.msc.fema.gov/lomc | Oct. 20, 2017 | 060763
Riverside | City of Cathedral City (16-09-1551P) | The Honorable Stanley E. Henry, Mayor, City of Cathedral City, 68700 Avenida Lalo Guerrero, Cathedral City, CA 92234 | Engineering Department, 68700 Avenida Lalo Guerrero, Cathedral City, CA 92234 | http://www.msc.fema.gov/lomc | Oct. 20, 2017 | 060704
Riverside | City of Palm Springs (16-09-1551P) | The Honorable Robert Moon, Mayor, City of Palm Springs, 3200 East Tahquitz Canyon Way, Palm Springs, CA 92262 | City Hall, 3200 East Tahquitz Canyon Way, Palm Springs, CA 92262 | http://www.msc.fema.gov/lomc | Oct. 20, 2017 | 060257
San Joaquin | City of Lathrop (17-09-0203P) | The Honorable Sonny Dhaliwal, Mayor, City of Lathrop, 390 Towne Centre Drive, Lathrop, CA 95330 | City Hall, 390 Towne Centre Drive, Lathrop, CA 95330 | http://www.msc.fema.gov/lomc | Oct. 23, 2017 | 060738
Idaho:
Ada | City of Boise (17-10-0875P) | The Honorable David H. Bieter, Mayor, City of Boise, P.O. Box 500, Boise, ID 83701 | Planning and Development Services, City Hall, 150 North Capital Boulevard, Boise, ID 83701 | http://www.msc.fema.gov/lomc | Oct. 13, 2017 | 160002
Kootenai | City of Coeur d'Alene (17-10-0479P) | The Honorable Steve Widmyer, Mayor, City of Coeur d'Alene, Coeur d'Alene City Hall, 710 East Mullan Avenue, Coeur d'Alene, ID 83814 | City Hall Planning Department, 710 East Mullan Avenue, Coeur d'Alene, ID 83814 | http://www.msc.fema.gov/lomc | Oct. 17, 2017 | 160078
Kootenai | Unincorporated Areas of Kootenai County (17-10-0479P) | Mr. Marc Eberlein, Chairman, Board of Commissioners, Kootenai County, 451 Government Way, Coeur d'Alene, ID 83814 | Assessors Department, Kootenai County Court House, 451 Government Way, Coeur d'Alene, ID 83816 | http://www.msc.fema.gov/lomc | Oct. 17, 2017 | 160076
Minnesota:
Anoka | City of Coon Rapids (17-05-2891P) | The Honorable Jerry Koch, Mayor, City of Coon Rapids, Coon Rapids City Hall, 11155 Robinson Drive, Coon Rapids, MN 55433 | City Hall, 11155 Robinson Drive, Coon Rapids, MN 55433 | http://www.msc.fema.gov/lomc | Oct. 6, 2017 | 270011
Norman | City of Ada (17-05-1647P) | The Honorable Jim Ellefson, Mayor, City of Ada, Ada City Hall, 15 4th Avenue East, Ada, MN 56510 | City Hall, 15 4th Avenue East, Ada, MN 56510 | http://www.msc.fema.gov/lomc | Sep. 20, 2017 | 270323
Norman | Unincorporated Areas of Norman County (17-05-1647P) | Mr. Marvin Gunderson, Chairman, Norman County Commissioners, Norman County Courthouse, 16 3rd Avenue East, Ada, MN 56510 | Norman County Courthouse, 16 3rd Avenue East, Ada, MN 56510 | http://www.msc.fema.gov/lomc | Sep. 20, 2017 | 270322
Nevada: Nye | Unincorporated Areas of Nye County (17-09-1129P) | The Honorable Dan Schinhofen, Chairman, Board of Commissioners, Nye County, 2100 East Walt Williams Drive, Suite 100, Pahrump, NV 89048 | Nye County, Department of Planning, 250 North Highway 160, Suite 1, Pahrump, NV 89060 | http://www.msc.fema.gov/lomc | Oct. 26, 2017 | 320018
Ohio: Stark | Unincorporated Areas of Stark County (17-05-1880P) | The Honorable Janet Weir Creighton, President, Board of Stark County Commissioners, 110 Central Plaza South, Suite 240, Canton, OH 44702 | Stark County Office Building, 110 Central Plaza South, Canton, OH 44702 | http://www.msc.fema.gov/lomc | Oct. 11, 2017 | 390780
Oregon:
Lane | City of Springfield (16-10-1640P) | The Honorable Christine Lundberg, Mayor, City of Springfield, Springfield City Hall, 225 5th Street, Springfield, OR 97477 | Planning Department, 225 5th Street, Springfield, OR 97477 | http://www.msc.fema.gov/lomc | Oct. 17, 2017 | 415592
Lane | Unincorporated Areas of Lane County (16-10-1640P) | Mr. Sid Leiken, Commissioner, Lane County, Lane County Public Service Building, 125 East 8th Avenue, Eugene, OR 97401 | Lane County Planning Department, Public Service Building, 125 East 8th Avenue, Eugene, OR 97401 | http://www.msc.fema.gov/lomc | Oct. 17, 2017 | 415591
Texas: Dallas | City of Dallas (17-06-1494P) | The Honorable Michael S. Rawlings, Mayor, City of Dallas, 1500 Marilla Street, Suite 5en, Dallas, TX 75201 | City Hall, 320 East Jefferson Boulevard, Room 321, Dallas, TX 75203 | http://www.msc.fema.gov/lomc | Oct. 12, 2017 | 480171
Washington:
King | City of Lake Forest Park (17-10-0060P) | The Honorable Jeff Johnson, Mayor, City of Lake Forest Park, City Hall, 17425 Ballinger Way Northeast, Lake Forest Park, WA 98155 | City Hall, 17425 Ballinger Way Northeast, Lake Forest Park, WA 98155 | http://www.msc.fema.gov/lomc | Oct. 10, 2017 | 530082
Whatcom | City of Bellingham (17-10-0520P) | The Honorable Kellie Linville, Mayor, City Bellingham, 210 Lottie Street, Bellingham, WA 98225 | Public Works/Engineering Department, City Hall, 210 Lottie Street, Bellingham, WA 98225 | http://www.msc.fema.gov/lomc | Oct. 18, 2017 | 530199

[FR Doc. 2017-16953 Filed 8-16-17; 8:45 am]

BILLING CODE P9110-12-P